DEPARTMENT OF LABOR

Employment and Training Administration

[TA-W-41,918]

Unilever Best Foods North America, Conopco, Santa Cruz, CA; Amended Certification Regarding Eligibility To Apply for Worker Adjustment Assistance

In accordance with section 223 of the Trade Act of 1974 (19 U.S.C. 2273) the Department of Labor issued a Certification of Eligibility to Apply for Worker Adjustment Assistance on October 1, 2002, applicable to workers of Unilever Best Foods North America, Santa Cruz, California. The notice was published in the Federal Register on October 22, 2002 (67 FR 64923).

At the request of the State agency, the Department reviewed the certification for workers of the subject firm. The workers were engaged in the production of packaged tea, including black tea and herbal tea.

New information shows that some workers separated from employment at the subject firm had their wages reported under a separate unemployment insurance (UI) tax account for Conopco.

Accordingly, the Department is amending the certification to properly reflect this matter.

The intent of the Department's certification is to include all workers of Unilever Best Foods North America, Santa Cruz, California who were adversely affected by increased imports.

The amended notice applicable to TA-W-41,918 is hereby issued as follows:

All workers of Unilever Best Foods North America, Conopco, Santa Cruz, California, who became totally or partially separated from employment on or after July 24, 2001, through October 1, 2004, are eligible to apply for adjustment assistance under section 223 of the Trade Act of 1974.

Signed at Washington, DC this 7th day of April 2003.
Richard Church,
Certifying Officer, Division of Trade Adjustment Assistance.

[FR Doc. 03-9146 Filed 4-14-03; 8:45 am]

BILLING CODE 4510-30-P